DEPARTMENT OF THE INTERIOR

National Park Service

Notice of Inventory Completion: Southwest Museum of the American Indian, Autry National Center, Los Angeles, CA

AGENCY: National Park Service, Interior.

ACTION: Notice.

Notice is here given in accordance with the Native American Graves Protection and Repatriation Act (NAGPRA), 25 U.S.C. 3003, of the completion of an inventory of human remains in the control of the Southwest Museum of the American Indian, Autry National Center, Los Angeles, CA. The human remains were removed from Los Angeles County, CA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Southwest Museum of the American Indian, Autry National Center professional staff in consultation with representatives of the San Manuel Band of Serrano Mission Indians of the San Manuel Reservation, California; Santa Rosa Indian Community of the Santa Rosa Rancheria, California (also known as the Tachi Yokut Tribe); Table Mountain Rancheria of California; Tule River Indian Tribe of the Tule River Reservation of California; and Tuolumne Band of Me-Wuk Indians of the Tuolumne Rancheria of California.

In 1938, human remains representing a minimum of three individuals were removed from an unknown site near Lancaster, Antelope Valley, Los Angeles County, CA, by the Sheriff's Office in Newhall, CA. The Sheriff's Office turned the human remains over to the Coroner's Office. The human remains were donated to the museum by Frank A. Nance, of the Coroner's Office in Los Angeles, CA. No known individuals were identified. No associated funerary objects are present.

Based on archeological analysis, the individuals have been identified as Native American, but the age is unknown. Consultation with a representative of the Santa Rosa Indian Community of the Santa Rosa Rancheria, California, confirmed that the provenience of the human remains is consistent with that of other discoveries of indigenous remains in the area. Geographical and historical evidence indicates that the sites are located within the traditional territory of the Southern Valley Yokuts and the Serrano people. Descendants of the Southern Valley Yokuts and the Serrano people are members of the San Manuel Band of Serrano Mission Indians of the San Manuel Reservation, California; Santa Rosa Indian Community of the Santa Rosa Rancheria, California; Table Mountain Rancheria of California; Tule River Indian Tribe of the Tule River Reservation of California; and Tuolumne Band of Me-Wuk Indians of the Tuolumne Rancheria of California.

Officials of the Southwest Museum of the American Indian, Autry National Center have determined that, pursuant to 25 U.S.C. 3001 (9-10), the human remains described above represent the physical remains of three individuals of Native American ancestry. Officials of the Southwest Museum of the American Indian, Autry National Center also have determined that, pursuant to 25 U.S.C. 3001 (2), there is a relationship of shared group identity that can be reasonably traced between the Native American human remains and the San Manuel Band of Serrano Mission Indians of the San Manuel Reservation, California; Santa Rosa Indian Community of the Santa Rosa Rancheria, California; Table Mountain Rancheria of California; Tule River Indian Tribe of the Tule River Reservation of California; and Tuolumne Band of Me-Wuk Indians of the Tuolumne Rancheria of California.

Representatives of any other Indian tribe that believes itself to be culturally affiliated with the human remains should contact Duane H. King, Ph.D., Executive Director, or LaLena Lewark, Senior NAGPRA Coordinator, Southwest Museum of the American Indian, 234 Museum Drive, Los Angeles, CA 90065, (323) 221-2164, extension 241, before October 22, 2007. Repatriation of the human remains to the Santa Rosa Indian Community of the Santa Rosa Rancheria, California may proceed after that date if no additional claimants come forward.

The Southwest Museum of the American Indian, Autry National Center, is responsible for notifying the San Manuel Band of Serrano Mission Indians of the San Manuel Reservation, California; Santa Rosa Indian Community of the Santa Rosa Rancheria, California; Table Mountain Rancheria of California; Tule River Indian Tribe of the Tule River Reservation of California; and Tuolumne Band of Me-Wuk Indians of the Tuolumne Rancheria of California that this notice has been published.

Dated: August 30, 2007
Sherry Hutt,
Manager, National NAGPRA Program.

[FR Doc. E7-18661 Filed 9-20-07; 8:45 am]

BILLING CODE 4312-50-S